SUSQUEHANNA RIVER BASIN COMMISSION

Public Hearing

AGENCY: Susquehanna River Basin Commission.

ACTION: Notice.

SUMMARY: The Susquehanna River Basin Commission will hold a public hearing on August 6, 2015, in Grantville, Pennsylvania. At this public hearing, the Commission will hear testimony on the projects listed in the Supplementary Information section of this notice. Such projects are intended to be scheduled for Commission action at its next business meeting, tentatively scheduled for September 10, 2015, which will be noticed separately. The Commission will also hear testimony on amending the Comprehensive Plan for the Water Resources of the Susquehanna River Basin. The public should take note that this public hearing will be the only opportunity to offer oral comment to the Commission for the listed projects and other items. The deadline for the submission of written comments is August 17, 2015.

DATES: The public hearing will convene on August 6, 2015, at 7:00 p.m. The public hearing will end at 9:00 p.m. or at the conclusion of public testimony, whichever is sooner. The deadline for the submission of written comments is August 17, 2015.

ADDRESSES: The public hearing will be conducted at the East Hanover Township Municipal Building, Main Hall, 8848 Jonestown Road, Grantville, PA 17028 (parking lot entry off of Manada Gap Road; see http://easthanovertwpdcpa.org/index.php/about-contact).

FOR FURTHER INFORMATION CONTACT: Jason Oyler, General Counsel, telephone: (717) 238-0423, ext. 1312; fax: (717) 238-2436. Information concerning the applications for these projects is available at the SRBC Water Resource Portal at www.srbc.net/wrp. Additional supporting documents are available to inspect and copy in accordance with the Commission's Access to Records Policy at www.srbc.net/pubinfo/docs/2009-02_Access_to_Records_Policy_20140115.pdf.

SUPPLEMENTARY INFORMATION: The public hearing will cover amendments to the Comprehensive Plan for the Water Resources of the Susquehanna River Basin. The public hearing will also cover the following projects:

Projects Scheduled for Action

1. Project Sponsor and Facility: Caernarvon Township Authority, Caernarvon Township, Berks County, Pa. Application for groundwater withdrawal of up to 0.763 mgd (30-day average) from Well 7.

2. Project Sponsor and Facility: Chetremon Golf Course, LLC, Burnside Township, Clearfield County, Pa. Application for consumptive water use of up to 0.200 mgd (peak day).

3. Project Sponsor and Facility: Chetremon Golf Course, LLC (Irrigation Storage Pond), Burnside Township, Clearfield County, Pa. Application for surface water withdrawal of up to 0.200 mgd (peak day).

4. Project Sponsor and Facility: Chief Oil & Gas LLC (Loyalsock Creek), Forksville Borough, Sullivan County, Pa. Application for surface water withdrawal of up to 2.000 mgd (peak day).

5. Project Sponsor and Facility: Furman Foods, Inc., Point Township, Northumberland County, Pa. Application for renewal of groundwater withdrawal of up to 0.320 mgd (30-day average) from Well 1 (Docket No. 19850901).

6. Project Sponsor and Facility: Furman Foods, Inc., Point Township, Northumberland County, Pa. Application for renewal of groundwater withdrawal of up to 0.190 mgd (30-day average) from Well 4 (Docket No. 19850901).

7. Project Sponsor and Facility: Furman Foods, Inc., Point Township, Northumberland County, Pa. Application for renewal of groundwater withdrawal of up to 0.090 mgd (30-day average) from Well 7 (Docket No. 19850901).

8. Project Sponsor and Facility: JELD-WEN, inc. Fiber Division—PA, Wysox Township, Bradford County, Pa. Application for groundwater withdrawal of up to 0.252 mgd (30-day average) from Well 1.

9. Project Sponsor and Facility: JELD-WEN, inc. Fiber Division—PA, Wysox Township, Bradford County, Pa. Application for groundwater withdrawal of up to 0.252 mgd (30-day average) from Well 4.

10. Project Sponsor and Facility: JELD-WEN, inc. Fiber Division—PA, Wysox Township, Bradford County, Pa. Application for groundwater withdrawal of up to 0.323 mgd (30-day average) from Well 5.

11. Project Sponsor and Facility: JELD-WEN, inc. Fiber Division—PA, Wysox Township, Bradford County, Pa. Application for groundwater withdrawal of up to 0.323 mgd (30-day average) from Well 6.

12. Project Sponsor and Facility: JELD-WEN, inc. Fiber Division—PA, Wysox Township, Bradford County, Pa. Application for groundwater withdrawal of up to 0.345 mgd (30-day average) from Well 7.

13. Project Sponsor and Facility: JELD-WEN, inc. Fiber Division—PA, Wysox Township, Bradford County, Pa. Application for consumptive water use of up to 0.424 mgd (peak day).

14. Project Sponsor and Facility: Keister Miller Investments, LLC (West Branch Susquehanna River), Mahaffey Borough, Clearfield County, Pa. Application for surface water withdrawal of up to 2.000 mgd (peak day).

15. Project Sponsor and Facility: Lycoming County Water and Sewer Authority, Fairfield Township, Lycoming County, Pa. Application for groundwater withdrawal of up to 0.180 mgd (30-day average) from Production Well 3.

16. Project Sponsor and Facility: Moxie Freedom LLC, Salem Township, Luzerne County, Pa. Application for consumptive water use of up to 0.092 mgd (peak day).

17. Project Sponsor and Facility: Moxie Freedom LLC, Salem Township, Luzerne County, Pa. Application for groundwater withdrawal of up to 0.062 mgd (30-day average) from Production Well 1.

18. Project Sponsor: Pennsylvania Department of Environmental Protection, Bureau of Conservation and Restoration. Project Facility: Cresson Mine Drainage Treatment Plant, Cresson Borough, Cambria County, Pa. Application for groundwater withdrawal from Argyle Stone Bridge Well for inclusion in treatment of up to 6.300 mgd (30-day average) from four sources.

19. Project Sponsor: Pennsylvania Department of Environmental Protection, Bureau of Conservation and Restoration. Project Facility: Cresson Mine Drainage Treatment Plant, Cresson Township, Cambria County, Pa. Application for groundwater withdrawal from Cresson No. 9 Well for inclusion in treatment of up to 6.300 mgd (30-day average) from four sources.

20. Project Sponsor: Pennsylvania Department of Environmental Protection, Bureau of Conservation and Restoration. Project Facility: Cresson Mine Drainage Treatment Plant, Gallitzin Township, Cambria County, Pa. Application for groundwater withdrawal from Gallitzin Shaft Well 2A (Gallitzin Shaft #2) for inclusion in treatment of up to 6.300 mgd (30-day average) from four sources.

21. Project Sponsor: Pennsylvania Department of Environmental Protection, Bureau of Conservation and Restoration. Project Facility: Cresson Mine Drainage Treatment Plant, Gallitzin Township, Cambria County, Pa. Application for groundwater withdrawal from Gallitzin Shaft Well 2B (Gallitzin Shaft #1) for inclusion in treatment of up to 6.300 mgd (30-day average) from four sources.

22. Project Sponsor and Facility: Seneca Resources Corporation (Marsh Creek), Delmar Township, Tioga County, Pa. Application for renewal of surface water withdrawal of up to 0.499 mgd (peak day) (Docket No. 20110907).

23. Project Sponsor and Facility: Shrewsbury Borough, York County, Pa. Application for renewal and modification to increase groundwater withdrawal by an additional 0.024 mgd (30-day average), for a total of up to 0.089 mgd (30-day average) from the Blouse Well (Docket No. 19820103).

24. Project Sponsor and Facility: Shrewsbury Borough, York County, Pa. Application for renewal of groundwater withdrawal of up to 0.099 mgd (30-day average) from the Smith Well (Docket No. 19811203).

25. Project Sponsor and Facility: SWN Production Company, LLC (Tioga River), Hamilton Township, Tioga County, Pa. Application for surface water withdrawal of up to 2.000 mgd (peak day).

26. Project Sponsor and Facility: Talisman Energy USA Inc. (Wappasening Creek), Windham Township, Bradford County, Pa. Application for renewal of surface water withdrawal of up to 1.000 mgd (peak day) (Docket No. 20110621).

27. Project Sponsor: UGI Development Company. Project Facility: Hunlock Creek Energy Center, Hunlock Township, Luzerne County, Pa. Modification to increase consumptive water use by an additional 1.526 mgd (peak day), for a total of up to 2.396 mgd (peak day) (Docket No. 20090916).

28. Project Sponsor and Facility: XTO Energy, Inc. (West Branch Susquehanna River), Chapman Township, Clinton County, Pa. Application for renewal of surface water withdrawal of up to 2.000 mgd (peak day) (Docket No. 20110911).

Request for Conditional Transfer

1. Panda Power Funds request for transfer of ownership of Hummel Station LLC (Docket Nos. 20081222 and 20081222-2). Transferred dockets will include modification of conditions requiring mitigation of all consumptively used water.

Opportunity To Appear and Comment

Interested parties may appear at the hearing to offer comments to the Commission on any project or other item listed above. The presiding officer reserves the right to limit oral statements in the interest of time and to otherwise control the course of the hearing. Ground rules will be posted on the Commission's Web site, www.srbc.net, prior to the hearing for review. The presiding officer reserves the right to modify or supplement such rules at the hearing. Written comments on any project or other item listed above may also be mailed to Mr. Jason Oyler, General Counsel, Susquehanna River Basin Commission, 4423 North Front Street, Harrisburg, Pa. 17110-1788, or submitted electronically through www.srbc.net/pubinfo/publicparticipation.htm. Comments mailed or electronically submitted must be received by the Commission on or before August 17, 2015, to be considered.

Authority: Pub. L. 91-575, 84 Stat. 1509 et seq., 18 CFR parts 806, 807, and 808.

Dated: July 2, 2015.
Stephanie L. Richardson,
Secretary to the Commission.

[FR Doc. 2015-16712 Filed 7-7-15; 8:45 am]

BILLING CODE 7040-01-P